FEDERAL COMMUNICATIONS COMMISSION

[Report No. 2428]

Petitions for Reconsideration and Clarification of Action in Rulemaking Proceedings

July 25, 2000.

Petitions for Reconsideration and Clarification have been filed in the Commission's rulemaking proceedings listed in this Public Notice and published pursuant to 47 CFR Section 1.429(e). The full text of these documents are available for viewing and copying in Room CY-A257, 445 12th Street, SW., Washington, DC or may be purchased from the Commission's copy contractor, ITS, Inc. (202) 857-3800. Oppositions to these petitions must be filed by August 22, 2000. See Section 1.4(b)(1) of the Commission's rules (47 CFR 1.4(b)(1)). Replies to an opposition must be filed within 10 days after the time for filing oppositions has expired.

Subject: Implementation of the Local Competition Provisions of the Telecommunications Act of 1996 (CC Docket No. 96-98).

Number of Petitions Filed: 1.

Subject: Telecommunications Relay Services and Speech-to-Speech Services for Individuals with Hearing and Speech Disabilities. (CC Docket No. 98-67).

Number of Petitions Filed: 5.

Federal Communications Commission.
Magalie Roman Salas,
Secretary.

[FR Doc. 00-19854 Filed 8-4-00; 8:45 am]

BILLING CODE 6712-01-M